DEPARTMENT OF THE INTERIOR

Fish and Wildlife Service

[FWS-R7-2010-N290; 70133-1265-0000-S3]

Draft Comprehensive Conservation Plan and Draft Environmental Impact Statement, Arctic National Wildlife Refuge, Fairbanks, AK

AGENCY: Fish and Wildlife Service, Interior.

ACTION: Notice of availability and request for comments; announcement of public meetings.

SUMMARY: We, the U.S. Fish and Wildlife Service (Service), announce the availability of a draft comprehensive conservation plan (CCP) and draft environmental impact statement (DEIS) for the Arctic National Wildlife Refuge (Refuge) for public review and comment. In this document, we describe goals and objectives, management direction, and alternatives to manage the Refuge for the 15 years following approval of the final CCP. Also available for review in the document are draft compatibility determinations, a draft wilderness review, and a draft wild and scenic river review prepared in association with the CCP, as well as supporting documents required by the National Environmental Policy Act (NEPA).

DATES: To ensure consideration, please send your written comments by November 14, 2011. We will hold public meetings in communities within and near the Refuge, and also in the cities of Anchorage and Fairbanks, in Alaska. We will announce these upcoming public meetings in local news media.

ADDRESSES: You may submit comments or requests for copies or more information by any of the following methods. You may request a 20-page summary of the CCP; a 1,200-page hard copy of the full CCP; or a CD-ROM of the summary and full document.

Agency Web Site: Download a copy of the summary or full CCP document at http://arctic.fws.gov/ccp.htm.

E-mail: ArcticRefugeCCP@fws.gov. Include “Arctic National Wildlife Refuge draft CCP and draft EIS” in the subject line of the message.

Fax: Attn: Sharon Seim, Planning Team Leader, (907) 456-0428.

U.S. Mail: Sharon Seim, Planning Team Leader, Arctic National Wildlife Refuge, 101 12th Ave., Rm. 236, Fairbanks, AK 99701.

In-Person Pickup or Drop-off: You may pick up a copy or drop off comments during regular business hours at the address listed above.

FOR FURTHER INFORMATION CONTACT: Sharon Seim, Planning Team Leader, at the address listed above, by phone at (907) 456-0501, or by e-mail at ArcticRefugeCCP@fws.gov.

SUPPLEMENTARY INFORMATION:

Introduction

With this notice, we continue the CCP process for the Arctic National Wildlife Refuge. We started this process through a notice of intent in the Federal Register (75 FR 17763; April 7, 2010).

The Arctic National Wildlife Refuge includes nearly 19.3 million acres, three wild rivers, and one of the largest areas of designated Wilderness in the United States. The rugged Brooks Range, with peaks and glaciers to 9,000 feet, extends east to west in a band 75 miles wide, rising abruptly from a tundra-covered plain. This treeless plain is cut by numerous braided rivers and streams. South of the continental divide, rivers wind serpentine courses through broad spruce-covered valleys dotted with lakes and sloughs. Nearly 180 species of birds, 45 species of mammals, and 36 species of fish have been documented on Arctic Refuge. Vast mountains, diverse wildlife, and a wealth of habitats give this unspoiled wildlife refuge high cultural-heritage, scenic, scientific, and wilderness values.

Background

The CCP Process

The Alaska National Interest Lands Conservation Act of 1980 (94 Stat. 2371; ANILCA) requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 20 years in accordance with ANILCA.

Public Outreach

We started the CCP for Arctic Refuge in April 2010. At that time and throughout the planning process, we requested public comments and considered and incorporated them in numerous ways. In April 2010, we mailed a planning newsletter to more than 2,000 individuals, agencies, and organizations describing the planning process for the CCP revision and telling the public how they could be informed or involved. It informed the public about the Refuge vision and draft goals identified by the planning team and Refuge staff. The newsletter contained a comment form that provided an opportunity for people to identify issues they thought should be addressed in the CCP or to provide suggestions on how best to accomplish Arctic Refuge purposes. The newsletter and comment form were also made available over the Internet.

To gather additional input from the public, members of the planning team and Refuge staff held eight public open house meetings—five in communities adjacent to or within the boundaries of the Arctic Refuge; one in Washington, DC; one in Anchorage, Alaska; and one in Fairbanks, Alaska.

Individuals and organizations provided 94,061 comments during the scoping process. The responses came in e-mails, Web forms, postcards, faxes, letters, and public hearing transcripts. Approximately 300 people spoke at meetings in 8 communities. The responses were reviewed, coded, and analyzed. Comments were sorted into six categories:

(1) General comments expressing support for, or opposition to, wilderness designation and development within the Refuge;

(2) Analysis—These comments spoke to the scope and content of the draft CCP/EIS, with the major theme being the need to update studies and to employ effective monitoring and inventories. A minor theme was the adequacy of the studies—the data concerns related to climate change, wildlife, invasive plants, recreation, oil and gas, water, and air;

(3) Process—Commenters provided input on process considerations for CCP preparation, including comments on decisionmaking philosophy, outreach, public involvement process, public meetings, and the influence of politics and special interests in the process;

(4) Activities and Uses—The comments received covered four major areas of activities and uses:

• Commercial activities, either support or opposition—e.g., concern about potential impacts to Refuge resources, or impact of permitted users on Native groups;

• Government Activities—e.g., scientific research, species management, structures within the Refuge, and alternative energy;

• Private Activities; and

• Native/Tribal activities on the Refuge, including support or opposition to recreational activities, large groups and growing crowds, with comments focused on potential impacts of Refuge regulations and policies to Native Alaskans;

(5) Land and Resource Management—The focus of these comments included discussions about Refuge purposes and mandates (asking the Service to avoid changing or manipulating the natural environment in the Refuge); support for, and opposition to, further Wilderness and Wild and Scenic River designations; opposition to naming of features; and both ensuring compliance with Refuge treaties and agreements and concern from Alaska Natives that treaties have been used to manipulate their lifestyles;

(6) Legal Consistency—This category included comments about the legal consistency of various laws, treaties, and policies that affect the Refuge—e.g., asking for clarification of the roles of the Service and Congress related to Wilderness designation and management within the “1002” area of the Refuge, and the role of Refuge planning to ensure that planning efforts for the CCP are consistent with laws, regulations, and policies.

We have considered and evaluated these issues and public concerns, and we have used them to develop various aspects of the draft CCP/EIS, such as management objectives, management guidelines, and alternatives.

CCP Alternatives We Are Considering

We developed and evaluated the following alternatives, summarized in the table below. A full description of each alternative is in the draft EIS.

Alternatives | Issue 1: Should additional Wilderness Study Areas be recommended for inclusion in the National Wilderness Preservation System, and if so, which areas? | Issue 2: Should additional Wild and Scenic Rivers be recommended for inclusion in the Wild and Scenic River System, and if so, which rivers? | Issue 3: How will the Refuge manage Kongakut River visitor use to protect natural resources and visitor experience?
A (No Action) | No new Wilderness recommended | No new Wild and Scenic Rivers recommended | Group size limits exist for commercially guided groups (7 hikers, 10 floaters). There are no group size limits for non-guided visitors. Commercial service providers have permits, with occasional compliance checks. In the Kongakut Valley, air taxi permits are granted under condition that the holders limit landing to non-vegetated surfaces only; subject to safety and weather, they must maintain minimum 2,000 feet above ground level flight operations, with no intentional low flights over camps or people; aircraft operations must not harass wildlife or interfere with refuge users. Visitor-use monitoring occurs every other year or less often. Campsite conditions are monitored periodically.
B | Recommend the Brooks Range Wilderness Study Area | Recommend the Kongakut, Hulahula, and Marsh Fork of the Canning Rivers | Same as Alternative A, with the following additional actions: Develop and initiate monitoring physical and social conditions to evaluate management effectiveness. Develop targeted public education materials explaining preferred practices to minimize impacts, such as proper waste disposal, avoiding wildlife impacts, and alleviating crowding among groups.
C | Recommend the Coastal Plain Wilderness Study Area | Recommend the Atigun River | Same as Alternative B.
D | Recommend the Brooks Range and Porcupine Plateau Wilderness Study Areas | Recommend the Kongakut, Marsh Fork of the Canning, and Atigun Rivers, and those portions of the Hulahula River that are on Refuge lands | Same as Alternative B, except: Increase efforts to enforce compliance with permit conditions and regulations. Reduce the number of groups on the river during heavy use periods (late June and mid-August) by working with commercial guides to modify their use of the river throughout the season. Work with commercial air taxi operators to disperse flight paths over the river.
E | Recommend the Brooks Range, Porcupine Plateau, and Coastal Plain Wilderness Study Areas | Recommend the Kongakut, Marsh Fork of the Canning, Hulahula, and Atigun Rivers | Same as Alternative D, except: Detailed step-down planning would start within 2 years of completing the Record of Decision for the CCP.
F | Same as Alternative A | Same as Alternative A | Same as Alternative B, except: A detailed step-down plan would decide how to enforce compliance with permit conditions and regulations. Step-down planning would start within 2 years after completing the Record of Decision for the CCP.

Public Availability of Documents

In addition to any methods in ADDRESSES, you can view or obtain documents at our Web site: http://arctic.fws.gov/ccp.htm.

Public Meetings

We will involve the public through open houses, hearings, meetings, and written comments. We will mail documents to our national and local Refuge mailing lists. Public open house meetings will be held in the communities of Arctic Village, Fort Yukon, Kaktovik, and Venetie, Alaska, and public hearings in will be held in Anchorage and Fairbanks, Alaska. Dates, times, and locations of each meeting or open house will be announced in advance in local media.

Submitting Comments/Issues for Comment

We particularly seek comments on the following issues:

• Issue 1—Should one or more areas of the Arctic Refuge be recommended for Wilderness designation?

• Issue 2—Should additional Wild and Scenic Rivers be recommended for inclusion in the National Wild and Scenic River System?

• Issue 3—How will the Refuge manage Kongakut River visitor use to protect resources and visitor experience?

We consider comments substantive if they:

• Question, with reasonable basis, the accuracy of the information in the document;

• Question, with reasonable basis, the adequacy of the environmental assessment;

• Present reasonable alternatives other than those presented in the draft

CCP and the EIS; and/or

• Provide new or additional information relevant to the assessment.

Next Steps

After this comment period ends, we will analyze the comments and address them in the form of a final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: July 15, 2011.
Geoffrey L. Haskett,
Regional Director, U.S. Fish and Wildlife Service, Anchorage, Alaska.

[FR Doc. 2011-20448 Filed 8-12-11; 8:45 am]

BILLING CODE 4310-55-P